ENVIRONMENTAL PROTECTION AGENCY

40 CFR Part 712

[EPA-HQ-OPPT-2005-0014; FRL-7764-9]

RIN 2070-AB08

Preliminary Assessment Information Reporting; Addition of Certain Chemicals

AGENCY: Environmental Protection Agency (EPA).

ACTION: Final rule and Technical corrections.

SUMMARY: This final rule, issued pursuant to section 8(a) of the Toxic Substances Control Act (TSCA), requires certain manufacturers (including importers) of certain High Production Volume (HPV) Challenge Program orphan (unsponsored) chemicals to submit a one-time report on general production/ importation volume, end use, and exposure-related information to EPA. The Interagency Testing Committee (ITC), established under section 4(e) of TSCA to recommend chemicals and chemical mixtures to EPA for priority testing consideration, amends the TSCA Section 4(e) Priority Testing List through periodic reports submitted to EPA. The ITC recently added certain HPV Challenge Program orphan (unsponsored) chemicals to the Priority Testing List in its 55th and 56th ITC Reports, as amended by deletions to this list made in its 56th and 58th ITC Reports. Two tungsten oxide compounds were added to the Priority Testing List by the ITC in its 55th ITC Report but were removed from the Priority Testing List in the 58th ITC Report. In addition, EPA is making technical corrections to update the EPA addresses to which submissions under the Preliminary Assessment Information Reporting (PAIR) rule must be mailed or delivered. This update reflects the completion of the Agency's move to the Federal Triangle complex in Washington, DC.

DATES: This final rule is effective September 15, 2006. However, § § 712.28 and 712.30(c), which contain technical corrections, are effective August 16, 2006.

For purposes of judicial review, this rule shall be promulgated at 1 p.m. eastern daylight/standard time on August 30, 2006. (See 40 CFR 23.5)

PAIR Forms must be submitted to EPA on or before November 14, 2006.

A request to withdraw a chemical from this PAIR rule, pursuant to 40 CFR 712.30(c), must be received on or before August 30, 2006. (See Unit IV. of the SUPPLEMENTARY INFORMATION.)

ADDRESSES: Docket. EPA has established a docket for this action under docket identification (ID) number EPA-HQ-OPPT-2005-0014. All documents in the docket are listed on the regulations.gov web site. Although listed in the index, some information is not publicly available, e.g., Confidential Business Information (CBI) or other information whose disclosure is restricted by statute. Certain other material, such as copyrighted material, is not placed on the Internet and will be publicly available only in hard copy form. Publicly available docket materials are available either electronically at http://www.regulations.gov or in hard copy at the OPPT Docket, EPA Docket Center (EPA/DC), EPA West, Rm. B102, 1301 Constitution Ave., NW., Washington, DC. The Public Reading Room is open from 8:30 a.m. to 4:30 p.m., Monday through Friday, excluding legal holidays. The telephone number for the Public Reading Room is (202) 566-1744, and the telephone number for the OPPT Docket is (202) 566-0280.

Submissions. For submission of PAIR Forms and withdrawal requests, each of which must be identified by docket ID number EPA-HQ-OPPT-2005-0014, see Unit III.D. and the regulatory text of this document.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Joe Nash, Chemical Control Division (7405M), Office of Pollution Prevention and Toxics, Environmental Protection Agency, 1200 Pennsylvania Ave., NW., Washington, DC 20460-0001; telephone number: (202) 564-8886; fax number: (202) 564-4765; e-mail address: ccd.citb@epa.gov.

SUPPLEMENTARY INFORMATION:

I. General Information

A. Does this Action Apply to Me?

You may be potentially affected by this action if you manufacture (defined by statute to include import) any of the chemical substances that are listed in 40 CFR 712.30(e) of the regulatory text of this document. Entities potentially affected by this action may include, but are not limited to:

• Chemical manufacturers (including importers), (NAICS codes 325, 324110), e.g., persons who manufacture (defined by statute to include import) one or more of the subject chemical substances.

This listing is not intended to be exhaustive, but rather provides a guide for readers regarding entities likely to be affected by this action. The North American Industrial Classification System (NAICS) codes have been provided to assist you and others in determining whether this action might apply to certain entities. If you have any questions regarding the applicability of this action to a particular entity, consult the technical person listed under FOR FURTHER INFORMATION CONTACT.

B. How Do I Submit CBI Information?

Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

II. Background

A. What Action is the Agency Taking?

EPA is issuing a PAIR rule under TSCA section 8(a) which requires certain manufacturers (including importers) of certain voluntary HPV Challenge Program orphan (unsponsored) chemicals (as defined by the ITC in its 55th, 56th, and 58th ITC Reports (Refs. 1, 2, and 3)) added to the ITC's TSCA section 4(e) Priority Testing List to submit production and exposure reports. The regulatory text of this document lists certain voluntary HPV Challenge Program orphan (unsponsored) chemicals that are being added to the PAIR rule. (For additional information about EPA's voluntary HPV Challenge Program, visit the Challenge Program website at http://www.epa.gov/chemrtk/volchall.htm).

EPA is also making minor amendments to update the EPA addresses to which submissions under the PAIR rule must be sent or delivered (40 CFR 712.28 and 712.30).

B. What is the Agency's Authority for Taking this Action?

EPA promulgated the PAIR rule under TSCA section 8(a) (15 U.S.C. 2607(a)), and it is codified at 40 CFR part 712. EPA uses this model TSCA section 8(a) rule to quickly gather current information on chemicals. This model TSCA section 8(a) rule establishes standard reporting requirements for certain manufacturers (including importers) of the chemicals listed in 40 CFR 712.30. These entities are required to submit a one-time report on general production/importation volume, end use, and exposure-related information using the PAIR Form entitled Manufacturer's Report-Preliminary Assessment Information (EPA Form No. 7710-35). (See 40 CFR 712.28.)

This model TSCA section 8(a) rule provides for the addition of TSCA section 4(e) Priority Testing List chemicals. Whenever EPA announces the receipt of an ITC Report, EPA amends, unless otherwise instructed by the ITC, the model TSCA section 8(a) information-gathering rule by adding the recommended (or designated) chemicals. The amendment adding these chemicals to the PAIR rule is effective 30 days after the date of publication in the Federal Register.

C. Why is this Action Being Issued as a Final Rule?

EPA is publishing this action as a final rule without prior notice and an opportunity for comment pursuant to the procedures set forth in 40 CFR 712.30(c). EPA finds that there is “good cause” under the Administrative Procedure Act (APA) (5 U.S.C. 553(b)(3)(B)) to make these amendments without prior notice and comment. EPA believes notice and an opportunity for comment on this action are unnecessary. TSCA directs the ITC to add chemicals to the Priority Testing List for which EPA should give priority consideration. EPA also lacks the authority to remove a chemical from the Priority Testing List once it has been added by the ITC. As explained earlier in this PAIR rule, pursuant to 40 CFR 712.30(c), once the ITC adds a chemical to the Priority Testing List, EPA in turn is obliged to add that chemical to the list of chemicals subject to PAIR reporting requirements, unless requested not to do so by the ITC. EPA promulgated this procedure in 1985 after having solicited public comment on the need for and mechanics of this procedure. (See the Federal Register of August 28, 1985 (50 FR 34805)). Because that rulemaking established the procedure for adding ITC chemicals to the PAIR rule, it is unnecessary to request comment on the procedure in this action. EPA believes this action does not raise any relevant issues for comment. EPA is not changing the PAIR reporting requirements or the process set forth in 40 CFR 712.30(c). Finally, 40 CFR 712.30(c) does provide EPA with the discretion to withdraw a chemical from the PAIR rule if a chemical manufacturer submits to EPA information showing good cause that a chemical should be removed from the PAIR rule.

III. Final Rule

A. What Chemicals are to be Added ?

In this PAIR rule, EPA is adding certain voluntary HPV Challenge Program orphan (unsponsored) chemicals as requested by the ITC in its 55th, 56th, and 58th ITC Reports (Refs. 1, 2, and 3). These chemicals are listed in 40 CFR 712.30(e) of the regulatory text of this document.

B. Who Must Report Under this PAIR Rule?

Persons who manufactured (defined by statute to include import) the chemicals identified in 40 CFR 712.30(e) of the regulatory text of this document during their latest complete corporate fiscal year must submit a PAIR Form for each site at which they manufactured or imported a named substance. Exemptions from this reporting requirement are found at 40 CFR 712.25. A separate form must be completed for each substance and submitted to the Agency as specified in 40 CFR 712.28 no later than November 14, 2006. Persons who have previously and voluntarily submitted a PAIR Form to the ITC may be able to submit a copy of the original report to EPA along with an accompanying letter notifying EPA of the respondent's intent that the submission be used in lieu of a current data submission. Persons who have previously and voluntarily submitted a PAIR Form to EPA may be able to notify EPA by letter of their desire to have this voluntary submission accepted in lieu of a current data submission. (See 40 CFR 712.30(a)(3)).

Details of the PAIR reporting requirements, including the basis for exemptions, are provided in 40 CFR part 712. Specifically, 40 CFR 712.28(d) provides information on the availability of the PAIR Form. Copies of the PAIR Form are available from the general information contact person listed under FOR FURTHER INFORMATION CONTACT. Copies of the PAIR Form are also available electronically from the Chemical Testing and Information Branch Home Page at http:// www.epa.gov/opptintr/chemtest/pairform.pdf.

C. Economic Analysis

The economic analysis for the addition of certain voluntary HPV Challenge Program orphan (unsponsored) chemicals to the PAIR rule is entitled Economic Analysis of the Addition of Chemicals from the 55th, 56th, and 58th ITC Report to the TSCA 8(a) PAIR Rule (Ref. 4). EPA identified 174 manufacturers of the 243 voluntary HPV Challenge Program orphan (unsponsored) chemicals in its 2002 Chemical Update System, which contains data reported under the Inventory Update Rule (IUR). The IUR required manufacturers (including importers) of certain chemical substances included in the TSCA Chemical Substances Inventory to report current data on the production volume, plant site, and site-limited status of these substances (as of the upcoming 2006 reporting cycle, information in addition to these data elements will also be reported). Since 1986, reporting under the IUR has taken place at 4-year intervals (reporting will occur in 5-year intervals after 2006). The threshold for reporting under the IUR (prior to the upcoming 2006 reporting cycle, for which the threshold will be 25,000 lbs) has been 10,000 lbs and the threshold for PAIR reporting is 1,100 lbs (500 kilograms (kg)). Because EPA's existing IUR data excludes any entities with production or importation volumes in the 1,100-10,000 lbs range, EPA's analysis may slightly underestimate the costs of the present PAIR rule. The PAIR rule exempts a firm from reporting if the total annual sales from all sites owned or controlled by the parent company are below $30 million for the reporting period and total production for the reporting period is below 45,400 kg (100,000 lbs) of the chemical at the plant.

EPA used the IUR data to estimate the potential number of companies and sites likely to submit PAIR reports and the number of estimated reports, and to develop appropriate assumptions needed to estimate overall costs. Much of the data reported under IUR is CBI, and as a result it is not detailed in the economic analysis (Ref. 3). EPA's review of the 2002 IUR data for the 243 voluntary HPV Challenge Program orphan (unsponsored) chemicals identified 312 sites that filed 547 IUR reports. Two of the sites meet the PAIR rule's exemption criteria and therefore are not expected to have to submit PAIR reports. An additional three sites that manufacture (including import) two voluntary HPV Challenge Program orphan (unsponsored) chemicals are expected to have one of their two chemicals meet the exemption criteria which further reduces the number of PAIR reports expected. Therefore, the total number of sites expected to provide PAIR reports is 310, and an estimated total of 541 reports is expected. By researching corporate affiliations for these 310 sites, EPA estimates that 172 firms (i.e., ultimate corporate entities (UCEs)) manufacturing (including importing) the voluntary HPV Challenge Program orphan (unsponsored) chemicals will need to comply with the PAIR rule.

Therefore, EPA anticipates 541 reports from 310 sites for 172 firms to be covered by this PAIR rule. Given the assumptions in this unit, the costs and burden associated with this PAIR rule are estimated in the Economic Analysis (Ref. 3) to be the following:

Industry Costs (dollars)

The estimated total cost to industry under this PAIR reporting rule is $643,730. The total industry cost divided by sites yields an average per site cost of $2,077 (i.e., $643,730/310 sites). Costs are expected to occur within a time frame of a single year. Therefore, costs have not been annualized.

EPA Costs (dollars)

Personnel requirements are derived from the 1989 PAIR Information Collection Request (ICR) update, which estimated that industry and public assistance required 0.00072 full time employees (FTEs) per report and data processing/system support required 0.0018 FTEs per report. Data processing costs for the 1996 PAIR ICR update were estimated to be approximately $199.56 per report. Adjusting this number to 2003 dollars with the Gross Domestic Product (GDP) implicit price deflator (BEA 2005) yields an adjusted data processing cost of $224.80 per report (i.e., $199.56 x 1.1265). This analysis estimates that a total of 541 reports will be submitted. EPA estimates the Agency costs to be $247,800.

D. Additional Amendments to Update EPA Addresses

EPA is making minor amendments to update the EPA addresses to which submissions under the PAIR reporting rule must be sent or delivered (40 CFR 712.28 and 712.30). This update to the EPA addresses reflects the completion of the Agency's move to the Federal Triangle complex in Washington, DC. The addresses listed in the existing regulation are no longer the correct or complete Agency addresses to which this material must be submitted. The Agency finds that notice and comment on these amendments is unnecessary. The update is not substantive and does not affect the information manufacturers must report. The amendments merely reflect a change in the Agency's location. The Agency therefore finds the amendments to be minor in nature.

IV. Requesting a Chemical be Withdrawn from the Rule

As specified in 40 CFR 712.30(c), EPA may remove a chemical substance, mixture, or category of chemical substances from this PAIR rule for good cause prior to September 15, 2006. Any person who believes that the reporting required by this PAIR rule is not warranted for a chemical listed in this PAIR rule, must submit to EPA detailed reasons for that belief.

EPA has established a policy regarding acceptance of new commitments to sponsor chemicals under the voluntary HPV Challenge Program (Ref. 5). Under this policy, EPA will accept new commitments to sponsor chemicals under the voluntary HPV Challenge Program for any of the 243 voluntary HPV Challenge Program orphan (unsponsored) chemicals listed in the regulatory text of this document until August 30, 2006. In accordance with the procedures described in 40 CFR 712.30(c), withdrawal requests submitted by chemical manufacturers in conjunction with these new commitments must be received on or before August 30, 2006. Voluntary HPV Challenge Program orphan (unsponsored) chemicals for which new commitments are accepted based on EPA's policy will be removed from the PAIR rule, and a Federal Register document announcing these withdrawal decisions will be published before the effective date of this PAIR rule (i.e., September 15, 2006).

You must submit your request to EPA on or before August 30, 2006 and in accordance with the instructions provided in 40 CFR 712.30(c), which are briefly summarized here. In addition, to ensure proper receipt, EPA recommends that you identify docket ID number EPA-HQ-OPPT-2005-0014 in the subject line on the first page of your submission. If the Administrator withdraws a chemical substance, mixture, or category of chemical substances from the amendment, a Federal Register document announcing this decision will be published no later than September 15, 2006.

V. Materials in the Docket

The official docket for this PAIR rule has been established under docket ID number EPA-HQ-OPPT-2005-0014. The official public docket is available for review as specified in ADDRESSES. The following is a listing of the documents referenced in this preamble that have been placed in the official docket for this PAIR rule:

1. ITC. 2005. Fifty-Fifth Report of the TSCA Interagency Testing Committee to the Administrator of the Environmental Protection Agency; Receipt of Report and Request for Comments. Federal Register (70 FR 7364, February 11, 2005) (FRL-7692-1). Available on-line at: http://www.epa.gov/fedrgstr.

2. ITC. 2005. Fifty-Sixth Report of the TSCA Interagency Testing Committee to the Administrator of the Environmental Protection Agency; Receipt of Report and Request for Comments. Federal Register (69 FR 61520, October 24, 2005) (FRL-7739-9). Available on-line at: http://www.epa.gov/fedrgstr.

3. ITC. 2006. Fifty-Eigth Report of the TSCA Interagency Testing Committee to the Administrator of the Environmental Protection Agency; Receipt of Report and Request for Comments. Federal Register (71 FR 39188, July ll, 2006) (FRL-8073-7). Available on-line at: http://www.epa.gov/fedrgstr.

4. EPA. 2006. Economic Analysis of the Addition of Chemicals from the 55th, 56th, and 58th ITC Report to the TSCA 8(a) PAIR Rule. July 10, 2006.

5. EPA. 2006. Policy Regarding Acceptance of New Commitments to the High Production Volume (HPV) Challenge Program. Available on-line at: http://www.epa.gov/chemrtk/hpvpolcy.htm. July 2006.

VI. Statutory and Executive Order Reviews

A. Executive Order 12866

The Office of Management and Budget (OMB) has exempted actions under TSCA section 8(a) related to the PAIR rule from the requirements of Executive Order 12866, entitled Regulatory Planning and Review (58 FR 51735, October 4, 1993).

B. Paperwork Reduction Act

The information collection requirements contained in TSCA section 8(a) PAIR rules have already been approved by OMB under the provisions of the Paperwork Reduction Act (PRA), 44 U.S.C. 3501 et seq., and OMB control number 2070-0054 (EPA ICR No. 0586). The collection activities in this final rule are captured by the existing approval and do not require additional review and/or approval by OMB.

EPA estimates that the information collection activities related to PAIR reporting for all chemicals in this final rule will result in a total industry burden estimated to be 13,712 hours. An estimated 310 sites are expected to provide PAIR reports. Therefore, the estimated burden per respondent is 44 hours (13,712 hours/310 sites). As defined by the PRA and 5 CFR 1320.3(b), “burden” means the total time, effort, or financial resources expended by persons to generate, maintain, retain, or disclose or provide information to or for a Federal Agency. This includes the time needed to: Review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Under the PRA, an agency may not conduct or sponsor, and a person is not required to respond to, an information collection request unless it displays a currently valid OMB control number. The OMB control numbers for EPA's regulations are listed in 40 CFR part 9 and included on the related collection instrument. This listing of the OMB control numbers and their subsequent codification in the CFR satisfies the display requirements of PRA and OMB's implementing regulations at 5 CFR part 1320.

C. Regulatory Flexibility Act

Pursuant to section 605(b) of the Regulatory Flexibility Act (RFA), 5 U.S.C. 601 et seq., the Agency hereby certifies that this final rule will not have a significant adverse economic impact on a substantial number of small entities. The factual basis for the Agency's determination is presented in the small entity impact analysis prepared as part of the economic analysis for this rule (Ref. 4), and is briefly summarized here.

Section 601(3) of RFA establishes as the default definition of “small business” the definition used in section 3 of the Small Business Act (SBA), 15 U.S.C. 632, under which the SBA establishes small business size standards for each industry sector (13 CFR 121.201). For this final rule, EPA has analyzed the potential small business impacts using the size standards established under the default definition. The SBA size standards, which are primarily intended to determine whether a business entity is eligible for government programs and preferences reserved for small businesses (13 CFR 121.101), “seek to ensure that a concern that meets a specific size standard is not dominant in its field of operation” (13 CFR 121.102(b)). (See section 632(a)(1) of SBA.) The SBA size standards are generally based upon the number of employees or level of sales that an entity in a certain industrial sector may have. Entities are classified into industrial sectors based upon their NAICS code.

EPA determined that the 172 UCEs subject to this PAIR rule fall into 77 unique NAICS codes. EPA confirmed through its analysis that 26 of the 172 affected firms are small businesses. In addition, there are another four firms for which sales and/or employment data are not available to make this determination.

To determine whether compliance costs for the small business sector may differ, EPA analyzed the data specific to these UCEs. Based on reporting to the IUR, EPA estimates that 27 small businesses will submit 34 reports for 29 sites. The average number of reports per company is 1.3, although, at least one of the companies is expected to submit at least three PAIR reports. EPA estimates the total cost for a small business with three sites as $4,023. However, nearly 90 percent of the small businesses will have only one report to submit. For these companies, the cost is approximately $1,500 per company assuming they undertake CBI substantiation and trademark notification.

EPA compared the cost of compliance for a small business to its sales and found that no companies would experience an impact of greater than 1% of its sales. In the case of a small business that submits three reports, EPA estimates that the firm would have to generate less than $402,300 in annual sales to experience a 1% impact. For those small businesses where EPA has available data (25 of the 27), the average sales data for a small business is greater than $258 million and the minimum annual sales was over $3.7 million. Therefore, EPA concludes that the impact of the rule on these small businesses will be minimal.

For the six companies where sales data were not available, EPA determined that each has only one site, with all but one site producing a single reportable chemical. Therefore, the average cost for those companies is approximately $1,500. Given that the lowest sales revenue for small businesses where sales could be identified was $3.7 million, the average cost to those companies is expected to be well below 1% of the sales of the company. Therefore, EPA does not believe it is likely that the cost of the rule to these businesses will be significant.

D. Unfunded Mandates Reform Act

Pursuant to Title II of the Unfunded Mandates Reform Act of 1995 (UMRA), Public Law 104-4, EPA has determined that this rule does not contain a Federal mandate that may result in expenditures of $100 million or more for State, local, and tribal governments, in the aggregate, or the private sector in any 1 year. In addition, EPA has determined that this rule will not significantly or uniquely affect small governments. Accordingly, the rule is not subject to the requirements of UMRA sections 202, 203, 204, or 205.

E. Executive Order 13132 and 13175

Based on EPA's experience with past TSCA section 8(a) rules, State, local, and tribal governments have not been impacted by these rules, and EPA does not have any reasons to believe that any State, local, or tribal government will be impacted by this rule. As a result, these rules are not subject to the requirements in Executive Order 13132, entitled Federalism (64 FR 43255, August 10, 1999) or Executive Order 13175, entitled Consultation and Coordination with Indian Tribal Governments (65 FR 67249, November 6, 2000).

F. Executive Order 13045

Executive Order 13045, entitled Protection of Children from Environmental Health Risks and Safety Risks (62 FR 19885, April 23,1997), does not apply to this rule, because it is not “economically significant” as defined under Executive Order 12866, and does not concern an environmental health or safety risk that may have a disproportionate effect on children. This rule requires the one-time reporting on general production/importation volume, end use, and exposure-related information to EPA by certain manufacturers (including importers) of certain chemicals requested by the ITC to be added to the PAIR rule in its 55th, 56th, and 58th ITC Reports (Ref. 1, 2, and 3).

G. Executive Order 13211

This rule is not subject to Executive Order 13211, entitled Actions Concerning Regulations That Significantly Affect Energy Supply, Distribution, or Use (66 FR 28355, May 22, 2001), because this action is not expected to affect energy supply, distribution, or use.

H. National Technology Transfer and Advancement Act

This action does not involve any technical standards that would require Agency consideration of voluntary consensus standards pursuant to section 12(d) of the National Technology Transfer and Advancement Act of 1995 (NTTAA), Public Law 104-113, section 12(d) (15 U.S.C. 272 note). Section 12(d) of NTTAA directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

I. Executive Order 12898

This action does not involve special considerations of environmental justice-related issues pursuant to Executive Order 12898, entitled Federal Actions to Address Environmental Justice in Minority Populations and Low-Income Populations (59 FR 7629, February 16, 1994).

VII. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 712

Environmental protection, Chemicals, Hazardous substances, Health and safety, Reporting and recordkeeping requirements.

Dated: August 3, 2006.
Charles M. Auer,
Director, Office of Pollution Prevention and Toxics.

Therefore, 40 CFR chapter I is amended as follows:

PART 712—[AMENDED]

1. The authority citation for part 712 continues to read as follows:

Authority: 15 U.S.C. 2607(a).

2. By revising paragraph (c) of § 712.28 to read as follows:

§ 712.28 Form and instructions.

* * * * *

(c) You must submit forms by one of the following methods:

(1) Mail, preferably certified, to the Document Control Office (DCO) (7407M), Office of Pollution Prevention and Toxics (OPPT), Environmental Protection Agency, 1200 Pennsylvania Ave., NW., Washington, DC 20460-0001, ATTN: 8(a) PAIR Reporting.

(2) Hand delivery to OPPT Document Control Office (DCO), EPA East, Rm. 6428, 1201 Constitution Ave., NW., Washington, DC, ATTN: 8(a) PAIR Reporting. The DCO is open from 8 a.m. to 4 p.m., Monday through Friday, excluding legal holidays. The telephone number for the DCO is (202)564-8930.

* * * * *

3. By amending § 712.30 as follows:

a. Remove the last sentence in paragraph (c), designate the remaining text of paragraph (c) as paragraph (c)(1), and add a new paragraph (c)(2).

b. Amend the table in paragraph (e) by adding in alphabetical order the category “Voluntary HPV Challenge Program orphan (unsponsored) chemicals” and its entries.

§ 712.30 Chemical lists and reporting periods.

* * * * *

(c) * * *

(2) You must submit information by one of the following methods:

(i) Mail, preferably certified, to the Document Control Office (DCO) (7407M), Office of Pollution Prevention and Toxics (OPPT), Environmental Protection Agency, 1200 Pennsylvania Ave., NW., Washington, DC 20460-0001, ATTN: 8(a) Auto-ITC.

(ii) Hand delivery to OPPT Document Control Office (DCO), EPA East, Rm. 6428, 1201 Constitution Ave., NW., Washington, DC, ATTN: 8(a) Auto-ITC. Reporting. The DCO is open from 8 a.m. to 4 p.m., Monday through Friday, excluding legal holidays. The telephone number for the DCO is (202)564-8930.

* * * * *

(e) * * *

CAS No. | Substance | Effective date | Reporting date
* * * * * * *
Voluntary HPV Challenge Program orphan (unsponsored) chemicals
62-56-6 | Thiourea | September 15, 2006 | November 14, 2006
74-97-5 | Methane, bromochloro- | September 15, 2006 | November 14, 2006
75-46-7 | Methane, trifluoro- | September 15, 2006 | November 14, 2006
77-76-9 | Propane, 2,2-dimethoxy- | September 15, 2006 | November 14, 2006
77-86-1 | 1,3-Propanediol, 2-amino-2-(hydroxymethyl)- | September 15, 2006 | November 14, 2006
81-07-2 | 1,2-Benzisothiazol-3(2H)-one, 1,1-dioxide | September 15, 2006 | November 14, 2006
81-16-3 | 1-Naphthalenesulfonic acid, 2-amino- | September 15, 2006 | November 14, 2006
81-84-5 | 1H,3H-Naphtho[1,8-cd]pyran-1,3-dione | September 15, 2006 | November 14, 2006
83-41-0 | Benzene, 1,2-dimethyl-3-nitro- | September 15, 2006 | November 14, 2006
84-69-5 | 1,2-Benzenedicarboxylic acid, bis(2-methylpropyl) ester | September 15, 2006 | November 14, 2006
85-40-5 | 1H-Isoindole-1,3(2H)-dione, 3a,4,7,7a-tetrahydro- | September 15, 2006 | November 14, 2006
91-68-9 | Phenol, 3-(diethylamino)- | September 15, 2006 | November 14, 2006
94-96-2 | 1,3-Hexanediol, 2-ethyl- | September 15, 2006 | November 14, 2006
96-22-0 | 3-Pentanone | September 15, 2006 | November 14, 2006
97-00-7 | Benzene, 1-chloro-2,4-dinitro- | September 15, 2006 | November 14, 2006
98-09-9 | Benzenesulfonyl chloride | September 15, 2006 | November 14, 2006
98-16-8 | Benzenamine, 3-(trifluoromethyl)- | September 15, 2006 | November 14, 2006
98-56-6 | Benzene, 1-chloro-4-(trifluoromethyl)- | September 15, 2006 | November 14, 2006
99-51-4 | Benzene, 1,2-dimethyl-4-nitro- | September 15, 2006 | November 14, 2006
100-64-1 | Cyclohexanone, oxime | September 15, 2006 | November 14, 2006
101-34-8 | 9-Octadecenoic acid, 12-(acetyloxy)-, 1,2,3-propanetriyl ester, (9Z,9'Z,9''Z,12R,12'R,12''R)- | September 15, 2006 | November 14, 2006
104-66-5 | Benzene, 1,1'-[1,2-ethanediylbis(oxy)]bis- | September 15, 2006 | November 14, 2006
104-93-8 | Benzene, 1-methoxy-4-methyl- | September 15, 2006 | November 14, 2006
107-39-1 | 1-Pentene, 2,4,4-trimethyl- | September 15, 2006 | November 14, 2006
107-40-4 | 2-Pentene, 2,4,4-trimethyl- | September 15, 2006 | November 14, 2006
107-45-9 | 2-Pentanamine, 2,4,4-trimethyl- | September 15, 2006 | November 14, 2006
110-18-9 | 1,2-Ethanediamine, N,N,N',N'-tetramethyl- | September 15, 2006 | November 14, 2006
110-33-8 | Hexanedioic acid, dihexyl ester | September 15, 2006 | November 14, 2006
111-44-4 | Ethane, 1,1'-oxybis[2-chloro- | September 15, 2006 | November 14, 2006
111-85-3 | Octane, 1-chloro- | September 15, 2006 | November 14, 2006
111-91-1 | Ethane, 1,1'-[methylenebis(oxy)]bis[2-chloro- | September 15, 2006 | November 14, 2006
118-90-1 | Benzoic acid, 2-methyl- | September 15, 2006 | November 14, 2006
119-33-5 | Phenol, 4-methyl-2-nitro- | September 15, 2006 | November 14, 2006
121-69-7 | Benzenamine, N,N-dimethyl- | September 15, 2006 | November 14, 2006
121-82-4 | 1,3,5-Triazine, hexahydro-1,3,5-trinitro- | September 15, 2006 | November 14, 2006
124-63-0 | Methanesulfonyl chloride | September 15, 2006 | November 14, 2006
127-68-4 | Benzenesulfonic acid, 3-nitro-, sodium salt | September 15, 2006 | November 14, 2006
131-57-7 | Methanone, (2-hydroxy-4-methoxyphenyl)phenyl- | September 15, 2006 | November 14, 2006
137-20-2 | Ethanesulfonic acid, 2-[methyl[(9Z)-1-oxo-9-octadecenyl]amino]-, sodium salt | September 15, 2006 | November 14, 2006
138-25-0 | 1,3-Benzenedicarboxylic acid, 5-sulfo-, 1,3-dimethyl ester | September 15, 2006 | November 14, 2006
139-40-2 | 1,3,5-Triazine-2,4-diamine, 6-chloro-N,N'-bis(1-methylethyl)- | September 15, 2006 | November 14, 2006
140-93-2 | Carbonodithioic acid, O-(1-methylethyl) ester, sodium salt | September 15, 2006 | November 14, 2006
142-73-4 | Glycine, N-(carboxymethyl)- | September 15, 2006 | November 14, 2006
150-50-5 | Phosphorotrithious acid, tributyl ester | September 15, 2006 | November 14, 2006
330-54-1 | Urea, N'-(3,4-dichlorophenyl)-N,N-dimethyl- | September 15, 2006 | November 14, 2006
460-00-4 | Benzene, 1-bromo-4-fluoro- | September 15, 2006 | November 14, 2006
506-51-4 | 1-Tetracosanol | September 15, 2006 | November 14, 2006
506-52-5 | 1-Hexacosanol | September 15, 2006 | November 14, 2006
513-74-6 | Carbamodithioic acid, monoammonium salt | September 15, 2006 | November 14, 2006
515-40-2 | Benzene, (2-chloro-1,1-dimethylethyl)- | September 15, 2006 | November 14, 2006
529-33-9 | 1-Naphthalenol, 1,2,3,4-tetrahydro- | September 15, 2006 | November 14, 2006
529-34-0 | 1(2H)-Naphthalenone, 3,4-dihydro- | September 15, 2006 | November 14, 2006
542-92-7 | 1,3-Cyclopentadiene | September 15, 2006 | November 14, 2006
557-61-9 | 1-Octacosanol | September 15, 2006 | November 14, 2006
563-72-4 | Ethanedioic acid, calcium salt (1:1) | September 15, 2006 | November 14, 2006
579-66-8 | Benzenamine, 2,6-diethyl- | September 15, 2006 | November 14, 2006
590-19-2 | 1,2-Butadiene | September 15, 2006 | November 14, 2006
592-45-0 | 1,4-Hexadiene | September 15, 2006 | November 14, 2006
598-72-1 | Propanoic acid, 2-bromo- | September 15, 2006 | November 14, 2006
617-94-7 | Benzenemethanol, .alpha.,.alpha.-dimethyl- | September 15, 2006 | November 14, 2006
628-13-7 | Pyridine, hydrochloride | September 15, 2006 | November 14, 2006
628-96-6 | 1,2-Ethanediol, dinitrate | September 15, 2006 | November 14, 2006
645-62-5 | 2-Hexenal, 2-ethyl- | September 15, 2006 | November 14, 2006
693-07-2 | Ethane, 1-chloro-2-(ethylthio)- | September 15, 2006 | November 14, 2006
693-95-8 | Thiazole, 4-methyl- | September 15, 2006 | November 14, 2006
756-80-9 | Phosphorodithioic acid, O,O-dimethyl ester | September 15, 2006 | November 14, 2006
870-72-4 | Methanesulfonic acid, hydroxy-, monosodium salt | September 15, 2006 | November 14, 2006
928-72-3 | Glycine, N-(carboxymethyl)-, disodium salt | September 15, 2006 | November 14, 2006
939-97-9 | Benzaldehyde, 4-(1,1-dimethylethyl)- | September 15, 2006 | November 14, 2006
1000-82-4 | Urea, (hydroxymethyl)- | September 15, 2006 | November 14, 2006
1002-69-3 | Decane, 1-chloro- | September 15, 2006 | November 14, 2006
1111-78-0 | Carbamic acid, monoammonium salt | September 15, 2006 | November 14, 2006
1115-20-4 | Propanoic acid, 3-hydroxy-2,2-dimethyl-, 3-hydroxy-2,2-dimethylpropyl ester | September 15, 2006 | November 14, 2006
1401-55-4 | Tannins | September 15, 2006 | November 14, 2006
1445-45-0 | Ethane, 1,1,1-trimethoxy- | September 15, 2006 | November 14, 2006
1459-93-4 | 1,3-Benzenedicarboxylic acid, dimethyl ester | September 15, 2006 | November 14, 2006
1498-51-7 | Phosphorodichloridic acid, ethyl ester | September 15, 2006 | November 14, 2006
1558-33-4 | Silane, dichloro(chloromethyl)methyl- | September 15, 2006 | November 14, 2006
1738-25-6 | Propanenitrile, 3-(dimethylamino)- | September 15, 2006 | November 14, 2006
1912-24-9 | 1,3,5-Triazine-2,4-diamine, 6-chloro-N-ethyl-N'-(1-methylethyl)- | September 15, 2006 | November 14, 2006
2152-64-9 | Benzenamine, N-phenyl-4-[[4-(phenylamino)phenyl][4-(phenylimino)-2,5-cyclohexadien-1-ylidene]methyl]-, monohydrochloride | September 15, 2006 | November 14, 2006
2210-79-9 | Oxirane, [(2-methylphenoxy)methyl]- | September 15, 2006 | November 14, 2006
2372-45-4 | 1-Butanol, sodium salt | September 15, 2006 | November 14, 2006
2409-55-4 | Phenol, 2-(1,1-dimethylethyl)-4-methyl- | September 15, 2006 | November 14, 2006
2425-54-9 | Tetradecane, 1-chloro- | September 15, 2006 | November 14, 2006
2494-89-5 | Ethanol, 2-[(4-aminophenyl)sulfonyl]-, hydrogen sulfate (ester) | September 15, 2006 | November 14, 2006
2524-03-0 | Phosphorochloridothioic acid, O,O-dimethyl ester | September 15, 2006 | November 14, 2006
2611-00-9 | 3-Cyclohexene-1-carboxylic acid, 3-cyclohexen-1-ylmethyl ester | September 15, 2006 | November 14, 2006
2691-41-0 | 1,3,5,7-Tetrazocine, octahydro-1,3,5,7-tetranitro- | September 15, 2006 | November 14, 2006
2814-20-2 | 4(1H)-Pyrimidinone, 6-methyl-2-(1-methylethyl)- | September 15, 2006 | November 14, 2006
2905-62-6 | Benzoyl chloride, 3,5-dichloro- | September 15, 2006 | November 14, 2006
2915-53-9 | 2-Butenedioic acid (2Z)-, dioctyl ester | September 15, 2006 | November 14, 2006
3039-83-6 | Ethenesulfonic acid, sodium salt | September 15, 2006 | November 14, 2006
3088-31-1 | Ethanol, 2-[2-(dodecyloxy)ethoxy]-, hydrogen sulfate, sodium salt | September 15, 2006 | November 14, 2006
3132-99-8 | Benzaldehyde, 3-bromo- | September 15, 2006 | November 14, 2006
3338-24-7 | Phosphorodithioic acid, O,O-diethyl ester, sodium salt | September 15, 2006 | November 14, 2006
3386-33-2 | Octadecane, 1-chloro- | September 15, 2006 | November 14, 2006
3710-84-7 | Ethanamine, N-ethyl-N-hydroxy- | September 15, 2006 | November 14, 2006
3779-63-3 | 1,3,5-Triazine-2,4,6(1H,3H,5H)-trione, 1,3,5-tris(6-isocyanatohexyl)- | September 15, 2006 | November 14, 2006
3965-55-7 | 1,3-Benzenedicarboxylic acid, 5-sulfo-, 1,3-dimethyl ester, sodium salt | September 15, 2006 | November 14, 2006
4035-89-6 | Imidodicarbonic diamide, N,N',2-tris(6-isocyanatohexyl)- | September 15, 2006 | November 14, 2006
4170-30-3 | 2-Butenal | September 15, 2006 | November 14, 2006
4316-73-8 | Glycine, N-methyl-, monosodium salt | September 15, 2006 | November 14, 2006
4860-03-1 | Hexadecane, 1-chloro- | September 15, 2006 | November 14, 2006
5026-74-4 | Oxiranemethanamine, N-[4-(oxiranylmethoxy)phenyl]-N-(oxiranylmethyl)- | September 15, 2006 | November 14, 2006
5216-25-1 | Benzene, 1-chloro-4-(trichloromethyl)- | September 15, 2006 | November 14, 2006
5460-09-3 | 2,7-Naphthalenedisulfonic acid, 4-amino-5-hydroxy-, monosodium salt | September 15, 2006 | November 14, 2006
5915-41-3 | 1,3,5-Triazine-2,4-diamine, 6-chloro-N-(1,1-dimethylethyl)-N'-ethyl- | September 15, 2006 | November 14, 2006
6473-13-8 | 2-Naphthalenesulfonic acid, 6-[(2,4-diaminophenyl)azo]-3-[[4-[[4-[[7-[(2,4-diaminophenyl)azo]-1-hydroxy-3-sulfo-2-naphthalenyl]azo]phenyl]amino]-3-sulfophenyl]azo]-4-hydroxy-, trisodium salt | September 15, 2006 | November 14, 2006
6863-58-7 | Butane, 2,2'-oxybis- | September 15, 2006 | November 14, 2006
6865-35-6 | Octadecanoic acid, barium salt | September 15, 2006 | November 14, 2006
7320-37-8 | Oxirane, tetradecyl- | September 15, 2006 | November 14, 2006
7795-95-1 | 1-Octanesulfonyl chloride | September 15, 2006 | November 14, 2006
8001-58-9 | Creosote | September 15, 2006 | November 14, 2006
10265-69-7 | Glycine, N-phenyl-, monosodium salt | September 15, 2006 | November 14, 2006
13749-94-5 | Ethanimidothioic acid, N-hydroxy-, methyl ester | September 15, 2006 | November 14, 2006
13826-35-2 | Benzenemethanol, 3-phenoxy- | September 15, 2006 | November 14, 2006
14666-94-5 | 9-Octadecenoic acid (9Z)-, cobalt salt | September 15, 2006 | November 14, 2006
17103-31-0 | Urea, sulfate (2:1) | September 15, 2006 | November 14, 2006
17321-47-0 | Phosphoramidothioic acid, O,O-dimethyl ester | September 15, 2006 | November 14, 2006
17976-43-1 | 2,4,6,8,3,5,7-Benzotetraoxatriplumbacycloundecin-3,5,7-triylidene, 1,9-dihydro-1,9-dioxo- | September 15, 2006 | November 14, 2006
19438-61-0 | 1,3-Isobenzofurandione, 5-methyl- | September 15, 2006 | November 14, 2006
19525-59-8 | Glycine, N-phenyl-, monopotassium salt | September 15, 2006 | November 14, 2006
20068-02-4 | 2-Butenenitrile, 2-methyl-, (2Z)- | September 15, 2006 | November 14, 2006
20227-53-6 | Phosphorous acid, 2-(1,1-dimethylethyl)-4-[1-[3-(1,1-dimethylethyl)-4-hydroxyphenyl]-1-methylethyl]phenyl bis(4-nonylphenyl) ester | September 15, 2006 | November 14, 2006
20469-71-0 | Hydrazinecarbodithioic acid, compd. with hydrazine (1:1) | September 15, 2006 | November 14, 2006
21351-39-3 | Urea, sulfate (1:1) | September 15, 2006 | November 14, 2006
22527-63-5 | Propanoic acid, 2-methyl-, 3-(benzoyloxy)-2,2,4-trimethylpentyl ester | September 15, 2006 | November 14, 2006
24615-84-7 | 2-Propenoic acid, 2-carboxyethyl ester | September 15, 2006 | November 14, 2006
24794-58-9 | Formic acid, compd. with 2,2',2''-nitrilotris[ethanol] (1:1) | September 15, 2006 | November 14, 2006
25154-38-5 | Piperazineethanol | September 15, 2006 | November 14, 2006
25168-05-2 | Benzene, chloromethyl- | September 15, 2006 | November 14, 2006
25168-06-3 | Phenol, (1-methylethyl)- | September 15, 2006 | November 14, 2006
25321-41-9 | Benzenesulfonic acid, dimethyl- | September 15, 2006 | November 14, 2006
25383-99-7 | Octadecanoic acid, 2-(1-carboxyethoxy)-1-methyl-2-oxoethyl ester, sodium salt | September 15, 2006 | November 14, 2006
25646-71-3 | Methanesulfonamide, N-[2-[(4-amino-3-methylphenyl)ethylamino]ethyl]-, sulfate (2:3) | September 15, 2006 | November 14, 2006
26377-29-7 | Phosphorodithioic acid, O,O-dimethyl ester, sodium salt | September 15, 2006 | November 14, 2006
26401-27-4 | Phosphorous acid, isooctyl diphenyl ester | September 15, 2006 | November 14, 2006
26680-54-6 | 2,5-Furandione, dihydro-3-(octenyl)- | September 15, 2006 | November 14, 2006
27193-28-8 | Phenol, (1,1,3,3-tetramethylbutyl)- | September 15, 2006 | November 14, 2006
28106-30-1 | Benzene, ethenylethyl- | September 15, 2006 | November 14, 2006
28188-24-1 | Octadecanoic acid, 2-(hydroxymethyl)-2-[[(1-oxooctadecyl)oxy]methyl]-1,3-propanediyl ester | September 15, 2006 | November 14, 2006
28777-98-2 | 2,5-Furandione, dihydro-3-(octadecenyl)- | September 15, 2006 | November 14, 2006
28908-00-1 | Benzothiazole, 2-[(chloromethyl)thio]- | September 15, 2006 | November 14, 2006
30574-97-1 | 2-Butenenitrile, 2-methyl-, (2E)- | September 15, 2006 | November 14, 2006
32072-96-1 | 2,5-Furandione, 3-(hexadecenyl)dihydro- | September 15, 2006 | November 14, 2006
33509-43-2 | 1,2,4-Triazin-5(2H)-one, 4-amino-6-(1,1-dimethylethyl)-3,4-dihydro-3-thioxo- | September 15, 2006 | November 14, 2006
34689-46-8 | Phenol, methyl-, sodium salt | September 15, 2006 | November 14, 2006
35203-06-6 | Benzenamine, 2-ethyl-6-methyl-N-methylene- | September 15, 2006 | November 14, 2006
35203-08-8 | Benzenamine, 2,6-diethyl-N-methylene- | September 15, 2006 | November 14, 2006
37734-45-5 | Carbonochloridothioic acid, S-(phenylmethyl) ester | September 15, 2006 | November 14, 2006
37764-25-3 | Acetamide, 2,2-dichloro-N,N-di-2-propenyl- | September 15, 2006 | November 14, 2006
38185-06-7 | Benzenesulfonic acid, 4-chloro-3,5-dinitro-, potassium salt | September 15, 2006 | November 14, 2006
38321-18-5 | Ethanol, 2-(2-butoxyethoxy)-, sodium salt | September 15, 2006 | November 14, 2006
39515-51-0 | Benzaldehyde, 3-phenoxy- | September 15, 2006 | November 14, 2006
40630-63-5 | 1-Octanesulfonyl fluoride | September 15, 2006 | November 14, 2006
40876-98-0 | Butanedioic acid, oxo-, diethyl ester, ion(1-), sodium | September 15, 2006 | November 14, 2006
51632-16-7 | Benzene, 1-(bromomethyl)-3-phenoxy- | September 15, 2006 | November 14, 2006
52184-19-7 | Phenol, 2,4-bis(1,1-dimethylpropyl)-6-[(2-nitrophenyl)azo]- | September 15, 2006 | November 14, 2006
52556-42-0 | 1-Propanesulfonic acid, 2-hydroxy-3-(2-propenyloxy)-, monosodium salt | September 15, 2006 | November 14, 2006
52663-57-7 | Ethanol, 2-butoxy-, sodium salt | September 15, 2006 | November 14, 2006
56803-37-3 | Phosphoric acid, (1,1-dimethylethyl)phenyl diphenyl ester | September 15, 2006 | November 14, 2006
57693-14-8 | Chromate(3-), bis[3-(hydroxy-.kappa.O)-4-[[2-(hydroxy-.kappa.O)-1-naphthalenyl]azo-.kappa.N1]-7-nitro-1-naphthalenesulfonato(3-)]-, trisodium | September 15, 2006 | November 14, 2006
61788-44-1 | Phenol, styrenated | September 15, 2006 | November 14, 2006
61788-76-9 | Alkanes, chloro | September 15, 2006 | November 14, 2006
61789-32-0 | Fatty acids, coco, 2-sulfoethyl esters, sodium salts | September 15, 2006 | November 14, 2006
61789-85-3 | Sulfonic acids, petroleum | September 15, 2006 | November 14, 2006
63302-49-8 | Phosphorochloridous acid, bis(4-nonylphenyl) ester | September 15, 2006 | November 14, 2006
64743-02-8 | Alkenes, C>10 .alpha.- | September 15, 2006 | November 14, 2006
64743-03-9 | Phenols (petroleum) | September 15, 2006 | November 14, 2006
65996-79-4 | Solvent naphtha (coal) | September 15, 2006 | November 14, 2006
65996-80-7 | Ammonia liquor (coal) | September 15, 2006 | November 14, 2006
65996-81-8 | Fuel gases, coke-oven | September 15, 2006 | November 14, 2006
65996-82-9 | Tar oils, coal | September 15, 2006 | November 14, 2006
65996-83-0 | Extracts, coal tar oil alk. | September 15, 2006 | November 14, 2006
65996-86-3 | Extract oils (coal), tar base | September 15, 2006 | November 14, 2006
65996-87-4 | Extract residues (coal), tar oil alk. | September 15, 2006 | November 14, 2006
65996-89-6 | Tar, coal, high-temp. | September 15, 2006 | November 14, 2006
65996-91-0 | Distillates (coal tar), upper | September 15, 2006 | November 14, 2006
65996-92-1 | Distillates (coal tar) | September 15, 2006 | November 14, 2006
66071-94-1 | Corn, steep liquor | September 15, 2006 | November 14, 2006
68081-86-7 | Phenol, nonyl derivs. | September 15, 2006 | November 14, 2006
68082-78-0 | Lard, oil, Me esters | September 15, 2006 | November 14, 2006
68153-60-6 | Fatty acids, tall-oil, reaction products with diethylenetriamine, acetates | September 15, 2006 | November 14, 2006
68187-41-7 | Phosphorodithioic acid, O,O-di-C1-14-alkyl esters | September 15, 2006 | November 14, 2006
68187-57-5 | Pitch, coal tar-petroleum | September 15, 2006 | November 14, 2006
68187-59-7 | Coal, anthracite, calcined | September 15, 2006 | November 14, 2006
68188-18-1 | Paraffin oils, chlorosulfonated, saponified | September 15, 2006 | November 14, 2006
68308-74-7 | Amides, tall-oil fatty, N,N-di-Me | September 15, 2006 | November 14, 2006
68309-16-0 | Fatty acids, tall-oil, 2-(2-hydroxyethoxy)ethyl esters | September 15, 2006 | November 14, 2006
68309-27-3 | Fatty acids, tall-oil, sulfonated, sodium salts | September 15, 2006 | November 14, 2006
68334-01-0 | Disulfides, alkylaryl dialkyl diaryl, petroleum refinery spent caustic oxidn. products | September 15, 2006 | November 14, 2006
68441-66-7 | Decanoic acid, mixed esters with dipentaerythritol, octanoic acid and valeric acid | September 15, 2006 | November 14, 2006
68442-60-4 | Acetaldehyde, reaction products with formaldehyde, by-products from | September 15, 2006 | November 14, 2006
68442-77-3 | 2-Butenediamide, (2E)-, N,N'-bis[2-(4,5-dihydro-2-nortall-oil alkyl-1H-imidazol-1-yl)ethyl] derivs. | September 15, 2006 | November 14, 2006
68457-74-9 | Phenol, isobutylenated methylstyrenated | September 15, 2006 | November 14, 2006
68476-80-2 | Fats and Glyceridic oils, vegetable, deodorizer distillates | September 15, 2006 | November 14, 2006
68478-20-6 | Residues (petroleum), steam-cracked petroleum distillates cyclopentadiene conc., C4-cyclopentadiene-free | September 15, 2006 | November 14, 2006
68513-62-2 | Disulfides, C5-12-alkyl | September 15, 2006 | November 14, 2006
68514-41-0 | Ketones, C12-branched | September 15, 2006 | November 14, 2006
68515-89-9 | Barium, carbonate nonylphenol complexes | September 15, 2006 | November 14, 2006
68527-22-0 | Naphtha (petroleum), clay-treated light straight-run | September 15, 2006 | November 14, 2006
68584-25-8 | Benzenesulfonic acid, C10-16-alkyl derivs., compds. with triethanolamine | September 15, 2006 | November 14, 2006
68602-81-3 | Distillates, hydrocarbon resin prodn. higher boiling | September 15, 2006 | November 14, 2006
68603-84-9 | Carboxylic acids, C5-9 | September 15, 2006 | November 14, 2006
68608-59-3 | Ethane, 1,2-dichloro-, manuf. of, by-products from, distn. lights | September 15, 2006 | November 14, 2006
68609-05-2 | Cyclohexane, oxidized, non-acidic by-products, distn. lights | September 15, 2006 | November 14, 2006
68610-90-2 | 2-Butenedioic acid (2E)-, di-C8-18-alkyl esters | September 15, 2006 | November 14, 2006
68649-42-3 | Phosphorodithioic acid, O,O-di-C1-14-alkyl esters, zinc salts | September 15, 2006 | November 14, 2006
68650-36-2 | Aromatic hydrocarbons, C8, o-xylene-lean | September 15, 2006 | November 14, 2006
68782-97-8 | Distillates (petroleum), hydrofined lubricating-oil | September 15, 2006 | November 14, 2006
68815-50-9 | Octadecanoic acid, reaction products with 2-[(2-aminoethyl)amino]ethanol | September 15, 2006 | November 14, 2006
68909-77-3 | Ethanol, 2,2'-oxybis-, reaction products with ammonia, morpholine derivs. residues | September 15, 2006 | November 14, 2006
68915-05-9 | Fatty acids, tall-oil, low-boiling, reaction products with ammonia-ethanolamine reaction by-products | September 15, 2006 | November 14, 2006
68915-39-9 | Cyclohexane, oxidized, aq. ext., sodium salt | September 15, 2006 | November 14, 2006
68918-16-1 | Tar, coal, dried and oxidized | September 15, 2006 | November 14, 2006
68919-17-5 | Hydrocarbons, C12-20, catalytic alkylation by-products | September 15, 2006 | November 14, 2006
68937-29-1 | 1,6-Hexanediol, distn. residues | September 15, 2006 | November 14, 2006
68937-69-9 | Carboxylic acids, C6-18 and C5-15-di- | September 15, 2006 | November 14, 2006
68937-70-2 | Carboxylic acids, C6-18 and C8-15-di- | September 15, 2006 | November 14, 2006
68937-72-4 | Carboxylic acids, di-, C4-11 | September 15, 2006 | November 14, 2006
68953-80-0 | Benzene, mixed with toluene, dealkylation product | September 15, 2006 | November 14, 2006
68955-37-3 | Acid chlorides, tallow, hydrogenated | September 15, 2006 | November 14, 2006
68955-76-0 | Aromatic hydrocarbons, C9-16, biphenyl deriv.-rich | September 15, 2006 | November 14, 2006
68987-41-7 | Benzene, ethylenated | September 15, 2006 | November 14, 2006
68987-66-6 | Ethene, hydrated, by-products from | September 15, 2006 | November 14, 2006
68988-22-7 | 1,4-Benzenedicarboxylic acid, dimethyl ester, manuf. of, by-products from | September 15, 2006 | November 14, 2006
68990-61-4 | Tar, coal, high-temp., high-solids | September 15, 2006 | November 14, 2006
68990-65-8 | Fats and Glyceridic oils, vegetable, reclaimed | September 15, 2006 | November 14, 2006
70084-98-9 | Terpenes and Terpenoids, C10-30, distn. residues | September 15, 2006 | November 14, 2006
70693-50-4 | Phenol, 2,4-bis(1-methyl-1-phenylethyl)-6-[(2-nitrophenyl)azo]- | September 15, 2006 | November 14, 2006
70851-08-0 | Amides, coco, N-[3-(dimethylamino)propyl], alkylation products with sodium 3-chloro-2-hydroxypropanesulfonate | September 15, 2006 | November 14, 2006
71077-05-9 | Ethanol, 2,2'-oxybis-, reaction products with ammonia, morpholine product tower residues | September 15, 2006 | November 14, 2006
72162-15-3 | 1-Decene, sulfurized | September 15, 2006 | November 14, 2006
72162-28-8 | 2-Propanone, reaction products with phenol | September 15, 2006 | November 14, 2006
72854-27-4 | Tannins, reaction products with sodium bisulfite, sodium polysulfide and sodium sulfite | September 15, 2006 | November 14, 2006
73665-18-6 | Extract residues (coal), tar oil alk., naphthalene distn. residues | September 15, 2006 | November 14, 2006
83864-02-2 | Nickel, bis[(cyano-C)triphenylborato(1-)-N]bis(hexanedinitrile-N,N')- | September 15, 2006 | November 14, 2006
84501-86-0 | Hexanedioic acid, esters with high-boiling C6-10-alkene hydroformylation products | September 15, 2006 | November 14, 2006
90640-80-5 | Anthracene oil | September 15, 2006 | November 14, 2006
90640-86-1 | Distillates (coal tar), heavy oils | September 15, 2006 | November 14, 2006
119345-02-7 | Benzene, 1,1'-oxybis-, tetrapropylene derivs. | September 15, 2006 | November 14, 2006
125997-20-8 | Phosphoric acid, mixed 3-bromo-2,2-dimethylpropyl and 2-bromoethyl and 2-chloroethyl esters | September 15, 2006 | November 14, 2006

[FR Doc. E6-13479 Filed 8-15-06; 8:45 am]

BILLING CODE 6560-50-S